DEPARTMENT OF HOMELAND SECURITY

Federal Emergency Management Agency

44 CFR Part 67

[Docket No. FEMA-B-7456]

Withdrawal of Final Flood Elevation Determination for Lexington/Fayette County, Kentucky and Incorporated Areas

AGENCY: Federal Emergency Management Agency, DHS.

ACTION: Final rule; withdrawal.

SUMMARY: The Federal Emergency Management Agency (FEMA) withdraws the final flood elevation determination published in 71 FR 60865, October 17, 2006 for the Lexington/Fayette County, Kentucky and Incorporated Areas, hereafter referred to as “LFC”. A final flood elevation determination will be made at a later date.

DATES: Effective Date: This rule is effective March 5, 2007.

FOR FURTHER INFORMATION CONTACT: William R. Blanton, Jr., Engineering Management Section, Mitigation Division, Federal Emergency Management Agency, 500 C Street, SW., Washington, DC 20472, (202) 646-3151.

SUPPLEMENTARY INFORMATION: On July 17, 2006, FEMA issued a letter to LFC finalizing the flood elevation determinations. In addition, the July 17, 2006 letter established a January 17, 2007 effective date for the Flood Insurance Study (FIS) and Flood Insurance Rate Map (FIRM) for the listed community. The reason for this rescission is to allow FEMA to complete a thorough review and revision of the preliminary maps in light of recent identification of potential errors in the FIRMs. Contradictions have been identified in some areas between the printed maps and the digital data base that supports the maps. There are also questions concerning the locations of stream cross sections on the maps. These discrepancies could lead to incorrect interpretation of the flood risk portrayed in the maps, or even incorrect flood insurance determinations. Due to these issues, it is prudent for FEMA to complete a review and revision of these maps prior to them becoming effective.

Until FEMA completes their review and revision of the aforementioned FIRMs, and digital data base, the final flood elevation published in 71 FR 60865, October 17, 2006 for the listed community is hereby withdrawn in accordance with section 110 of the Flood Disaster Protection Act of 1973, 42 U.S.C. 4104. Until further notice, the release of the FIS and FIRM for the listed communities has been postponed.

National Environmental Policy Act

This rule is categorically excluded from the requirements of 44 CFR part 10, Environmental Consideration. No environmental impact assessment has been prepared.

Regulatory Flexibility Act

As flood elevation determinations are not within the scope of the Regulatory Flexibility Act, 5 U.S.C. 601-612, a regulatory flexibility analysis is not required.

Regulatory Classification

This final rule is not a significant regulatory action under the criteria of section 3(f) of Executive Order 12866 of September 30, 1993, Regulatory Planning and Review, 58 FR 51735.

Executive Order 13132, Federalism

This rule involves no policies that have federalism implications under Executive Order 13132.

Executive Order 12988, Civil Justice Reform

This rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended to withdraw the following:

The final flood elevation determination published in 71 FR 60865, October 17, 2006 for the Lexington/Fayette County, Kentucky and Incorporated Areas.

Dated: February 22, 2007.
David I. Maurstad,
Director, Mitigation Division, Federal Emergency Management Agency, Department of Homeland Security.

[FR Doc. E7-3724 Filed 3-2-07; 8:45 am]

BILLING CODE 9110-12-P